FEDERAL COMMUNICATIONS COMMISSION

47 CFR Part 1

[WT Docket No. 19-212; FCC 20-126; FRS 27277]

Completing the Transition to Electronic Filing, Licenses and Authorizations, and Correspondence in the Wireless Radio Services

AGENCY: Federal Communications Commission.

ACTION: Final rule; correction.

SUMMARY: The Federal Communications Commission (Commission) is correcting the amendatory instructions for the E-Licensing Report and Order that appeared in the Federal Register on December 29, 2020. The Report and Order finalizes the Commission's transition to electronic interactions for licenses in the Wireless Radio Services. We make this correction because an amendatory instruction in the rules can no longer be implemented as written. This is because the rule was modified after the Report and Order was adopted but before the rule modification was scheduled to take effect.

DATES: Effective June 29, 2021.

FOR FURTHER INFORMATION CONTACT: Katherine Patsas Nevitt email: katherine.nevitt@fcc.gov of the Wireless Telecommunications Bureau; or call Katherine Patsas Nevitt at (202) 418-0638.

SUPPLEMENTARY INFORMATION: In FR Doc. 20-28779, appearing on page 85524 in the Federal Register on December 29, 2020, the following correction is made:

§ 1.1307 [Corrected]

1. On page 85530, in the second column, in amendatory instruction 20, remove instruction 20a and redesignate instructions 20b and 20c as instructions 20a and 20b.

Federal Communications Commission.
Marlene Dortch,
Secretary.

[FR Doc. 2021-10670 Filed 5-19-21; 8:45 am]

BILLING CODE 6712-01-P